DEPARTMENT OF COMMERCE

National Oceanic and Atmospheric Administration

Request for Public Comment on NOAA Commercial Data Buys Guidance

AGENCY: Office of the Chief Information Officer (OCIO), National Oceanic and Atmospheric Administration (NOAA), Department of Commerce.

ACTION: Notice; request for information (RFI).

SUMMARY: The Chief Data Officer within NOAA OCIO seeks information from interested parties regarding NOAA Observing System Council (NOSC) 2024 Guidance for NOAA Commercial Data Buys, a framework document developed for NOAA programs and offices that describes considerations for NOAA's engagements with the commercial sector on commercial data buy opportunities from all sources that contribute to environmental intelligence.

DATES: Submit written comments on or before September 25, 2024.

ADDRESSES: The public may submit written comments on issues addressed in this notification by the following method:

• Email: Comments may be submitted by email to nosc.execsec@noaa.gov.

A copy of NOAA Guidance for Commercial Data Buys may be downloaded or viewed at: https://nosc.noaa.gov/commercial_data_buys_guidance.php.

Instructions: Response to this RFI is voluntary. Attachments will be accepted in plain text, Microsoft Word, or Adobe PDF formats only. Respondents need not reply to all questions listed. Each individual or institution is requested to submit only one response. All comments received are part of the public record and may be posted, without change, on a Federal website. All identifying information (e.g., name, address) submitted voluntarily by the sender will be publicly accessible. NOAA, therefore, requests that no business proprietary information, copyrighted information, or personally identifiable information be submitted in response to this RFI. Please note that the U.S. Government will not pay for response preparation, or for the use of any information contained in the response.

FOR FURTHER INFORMATION CONTACT: Requests for additional information should be directed to nosc.execsec@noaa.gov.

SUPPLEMENTARY INFORMATION:

Background

NOAA has long met its mission through collaboration and partnerships with the broader enterprise. In order to respond to an ever-growing supply and demand for environmental information, NOAA recognizes the need to increasingly harness the opportunities of a rapidly growing commercial sector to complement and potentially increase its current observational capabilities, as environmental data sources from the private sector are expanding.

The NOSC established a task team to develop Guidance for NOAA Commercial Data Buys, a framework document for NOAA programs and offices that describes considerations for NOAA's engagements with the commercial sector on commercial data buy opportunities from all sources that contribute to environmental intelligence. This guidance is essential to ensure data quality and technical requirements are met, mission and supply chain risks are mitigated, and current data sharing commitments with national partners, international partners, and downstream private sector entities are honored. Ensuring a consistent approach across NOAA in working with commercial data providers is also important to maintain the high fidelity of NOAA services and to clearly communicate NOAA's plans to industry.

Discussion Points To Inform the NOAA Commercial Data Buys Guidance

NOAA seeks response to this guidance as feedback, with discussion on the following points,* to the extent feasible:

1. What does this guidance enable for you as a provider of commercial data or a user of commercial data? What opportunities does it introduce?

2. What challenges would this guidance introduce for you and why?

3. What do you feel NOAA is not considering?

* Note: Only comments in response to the above questions will be considered. NOAA is not soliciting comments or feedback on items of an editorial nature or NOAA processes.

Please note that this is an RFI only. In accordance with the implementing regulations of the Paperwork Reduction Act of 1995 (PRA), specifically 5 CFR 1320.3(h)(4), this general solicitation is exempt from the PRA. Facts or opinions submitted in response to general solicitations of comments from the public, published in the Federal Register or other publications, regardless of the form or format thereof, provided that no person is required to supply specific information pertaining to the commenter, other than that necessary for self-identification, as a condition of the agency's full consideration, are not generally considered information collections and therefore not subject to the PRA.

Dated: August 21, 2024.
Anthony Andrew LaVoi,
Chief Data Officer, Office of the Chief Information Officer, National Oceanic and Atmospheric Administration.

[FR Doc. 2024-19131 Filed 8-23-24; 8:45 am]

BILLING CODE 3510-22-P